DEPARTMENT OF THE INTERIOR

Office of the Secretary

[RR04073000/XXXR4081X3/RX.05940913.7000000]

Glen Canyon Dam Adaptive Management Work Group; Request for Nominations

AGENCY: Office of the Secretary, Interior.

ACTION: Notice and request for nominations.

SUMMARY: The U.S. Department of the Interior proposes to appoint members to the Glen Canyon Dam Adaptive Management Work Group (AMWG). The Secretary of the Interior, acting as administrative lead, is requesting nominations for qualified persons to serve as members of the AMWG.

DATES: Nominations must be postmarked by July 6, 2018.

ADDRESSES: Nominations should be sent to Brent Rhees, Regional Director, U.S. Bureau of Reclamation, 125 S State Street, Room 8100, Salt Lake City, UT 84138, or via email to brhees@usbr.gov.

FOR FURTHER INFORMATION CONTACT: Katrina Grantz, Chief, Adaptive Management Work Group, Environmental Resources Division, at (801) 524-3635, fax: 801-524-5499, or by email at kgrantz@usbr.gov.

SUPPLEMENTARY INFORMATION:

Advisory Committee Scope and Objectives

The Grand Canyon Protection Act (Act) of October 30, 1992, Public Law 102-575; Federal Advisory Committee Act, as amended, 5 U.S.C. Appendix 2 authorized creation of the AMWG to provide recommendations to the Assistant Secretary for Water and Science at the Department of the Interior in carrying out the responsibilities of the Act to protect, mitigate adverse impacts to, and improve the values for which Grand Canyon National Park and Glen Canyon National Recreational Area were established, including but not limited to, natural and cultural resources and visitor use.

The duties or roles and functions of the AMWG are in an advisory capacity only. They are to: (1) Establish AMWG operating procedures, (2) advise the Secretary in meeting environmental and cultural commitments including those contained in the Record of Decision for the Glen Canyon Dam Long-Term Experimental and Management Plan Final Environmental Impact Statement and subsequent related decisions, (3) recommend resource management objectives for development and implementation of a long-term monitoring plan, and any necessary research and studies required to determine the effect of the operation of Glen Canyon Dam on the values for which Grand Canyon National Park and Glen Canyon Dam National Recreation Area were established, including but not limited to, natural and cultural resources, and visitor use, (4) review and provide input on the report identified in the Act to the Secretary, the Congress, and the Governors of the Colorado River Basin States, (5) annually review long-term monitoring data to provide advice on the status of resources and whether the Adaptive Management Program (AMP) goals and objectives are being met, and (6) review and provide input on all AMP activities undertaken to comply with applicable laws, including permitting requirements.

Membership Criteria

Prospective members of AMWG need to have a strong capacity for advising individuals in leadership positions, team work, project management, tracking relevant Federal government programs and policy making procedures, and networking with and representing their stakeholder group. Membership from a wide range of disciplines and professional sectors is encouraged.

Members of the AMWG are appointed by the Secretary and are comprised of—

a. Secretary's Designee, who will serve as Chairperson for the AMWG.

b. One representative each from the following entities: The Secretary of Energy (Western Area Power Administration), Arizona Game and Fish Department, Hopi Tribe, Hualapai Tribe, Navajo Nation, San Juan Southern Paiute Tribe, Southern Paiute Consortium, Pueblo of Zuni.

c. One representative each from the Governors from the seven basin States: Arizona, California, Colorado, Nevada, New Mexico, Utah, and Wyoming.

d. Representatives each from the general public as follows: Two from environmental organizations, two from the recreation industry, and two from contractors who purchase Federal power from Glen Canyon Powerplant.

e. One representative from each of the following DOI agencies as ex-officio non-voting members: Bureau of Reclamation, Bureau of Indian Affairs, U.S. Fish and Wildlife Service, and National Park Service.

At this time, we are particularly interested in applications from representatives of the following:

(a) One each from the basin states of Arizona, California, Colorado, Nevada, New Mexico, Utah and Wyoming;

(b) one each from Native American Tribes (Hualapai Tribe, Hopi Tribe, Navajo Nation, Pueblo of Zuni and Southern Paiute Consortium);

(c) two from environmental interests;

(d) two from recreational interests;

(e) two Federal power purchase contractors; and,

(f) one from Arizona Game and Fish Department.

After consultation, the Secretary of the Interior will appoint members to the AMWG. Members will be selected based on their individual qualifications, as well as the overall need to achieve a balanced representation of viewpoints, subject matter expertise, regional knowledge, and representation of communities of interest. AMWG member terms are limited to three (3) years from their date of appointment. Following completion of their first term, an AMWG member may request consideration for reappointment to an additional term. Reappointment is not guaranteed.

Typically, AMWG will hold two in-person meetings and one webinar meeting per fiscal year. Between meetings, AMWG members are expected to participate in committee work via conference calls and email exchanges. Members of the AMWG and its subcommittees serve without pay. However, while away from their homes or regular places of business in the performance of services of the AMWG, members may be reimbursed for travel expenses, including per diem in lieu of subsistence, in the same manner as persons employed intermittently in the government service, as authorized by section 5703 of title 5, United States Code.

Individuals who are federally registered lobbyists are ineligible to serve on all FACA and non-FACA boards, committees, or councils in an individual capacity. The term “individual capacity” refers to individuals who are appointed to exercise their own individual best judgment on behalf of the government, such as when they are designated Special Government Employees, rather than being appointed to represent a particular interest.

Nominations should include a resume that provides an adequate description of the nominee's qualifications, particularly information that will enable the Department of the Interior to evaluate the nominee's potential to meet the membership requirements of the Committee and permit the Department of the Interior to contact a potential member. Please refer to the membership criteria stated in this notice.

Any interested person or entity may nominate one or more qualified individuals for membership on the AMWG. Nominations from the seven basin states, as identified in (a) above, need to be submitted by the respective Governors of those states. Persons or entities submitting nomination packages on the behalf of others must confirm that the individual(s) is/are aware of their nomination. Nominations must be postmarked no later than July 6, 2018 and sent to Brent Rhees, Regional Director, U.S. Bureau of Reclamation, 125 S. State Street, Room 8100, Salt Lake City, UT 84138.

Public Disclosure of Comments

Before including your address, phone number, email address, or other personal identifying information in your nominations and/or comments, you should be aware that your entire comment—including your personal identifying information—may be made publicly available at any time. While you can ask us in your nomination/comment to withhold your personal identifying information from public review, we cannot guarantee that we will be able to do so.

Authority: 5 U.S.C. Appendix 2.

Dated: May 25, 2018.
Ryan K. Zinke,
Secretary of the Interior.

[FR Doc. 2018-12131 Filed 6-5-18; 8:45 am]

BILLING CODE 4332-90-P